NUCLEAR REGULATORY COMMISSION

[NRC-2009-0425]

Draft Regulatory Guide: Issuance, Availability

AGENCY: Nuclear Regulatory Commission.

ACTION: Notice of Issuance and Availability of Draft Regulatory Guide, DG-8039, “Methods for Estimating Effective Dose Equivalent from External Exposure.”

FOR FURTHER INFORMATION CONTACT: Roger Pedersen, U.S. Nuclear Regulatory Commission, Washington, DC 20555-0001, telephone: (301) 415-3162, e-mail to Roger.Pedersen@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Methods for Estimating Effective Dose Equivalent from External Exposure,” is temporarily identified by its task number, DG-8039, which should be mentioned in all related correspondence. DG-8039 will be a new regulatory guide.

This regulatory guide describes dosimetry methods that the NRC considers acceptable for determining effective dose equivalent for external (EDEX) radiation exposures. These methods provide a conservative estimate of EDEX and may be used to calculate TEDE in demonstrating compliance with TEDE-based regulatory requirements consistent with the provisions in 10 CFR 20.1201(c).

Title 10, section 20.1003, “Definitions,” of the Code of Federal Regulations (10 CFR 20.1003) defines total effective dose equivalent (TEDE) as the sum of the effective dose equivalent (EDE) (for external exposures) and the committed EDE (for internal exposures). In 10 CFR 20.1201(a), the NRC provides an annual dose limit of 0.05 sievert (5 rem) TEDE and in 10 CFR 20.1201(c) requires that when an external personal monitoring device is used to measure external exposure, the deep-dose equivalent (DDE) must be used as an estimate of the EDE unless the EDE is determined more directly by a dosimetry method approved by the NRC. In using the DDE to estimate the EDE, the assigned DDE must be for the part of the body receiving the highest radiation exposure.

II. Further Information

The NRC staff is soliciting comments on DG-8039. Comments may be accompanied by relevant information or supporting data and should mention DG-8039 in the subject line. Comments submitted in writing or in electronic form will be made available to the public in their entirety through the NRC's Agencywide Documents Access and Management System (ADAMS).

Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any of the following methods:

1. Mail comments to: Rulemaking and Directives Branch, Mail Stop: TWB-05-B01M, Office of Administration, U.S. Nuclear Regulatory Commission, Washington, DC 20555-0001.

2. Federal e-Rulemaking Portal: Go to http://www.regulations.gov and search for documents filed under Docket ID NRC-2009-0425. Address questions about NRC dockets to Carol Gallagher, 301-492-3668; e-mail Carol.Gallagher@nrc.gov.

3. Fax comments to: Rulemaking and Directives Branch, Office of Administration, U.S. Nuclear Regulatory Commission at (301) 492-3446.

Comments would be most helpful if received by November 26, 2009. Comments received after that date will be considered if it is practical to do so, but the NRC is able to ensure consideration only for comments received on or before this date. Although a time limit is given, comments and suggestions in connection with items for inclusion in guides currently being developed or improvements in all published guides are encouraged at any time.

Requests for technical information about DG-8039 may be directed to the NRC contact, Roger Pedersen at (301) 415-3162 or e-mail to Roger.Pedersen@nrc.gov.

Electronic copies of DG-8039 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML091390066.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 3rd day of September 2009.
For the Nuclear Regulatory Commission.
Andrea D. Valentin,
Chief, Regulatory Guide Development Branch, Division of Engineering, Office of Nuclear Regulatory Research.

[FR Doc. E9-23433 Filed 9-28-09; 8:45 am]

BILLING CODE 7590-01-P